DEPARTMENT OF LABOR

Office of the Secretary

Submission for OMB Review; Comment Request

January 29, 2004.

The Department of Labor (DOL) has submitted the following public information collection request (ICR) to the Office of Management and Budget (OMB) for review and approval in accordance with the Paperwork Reduction Act of 1995 (Pub. L. 104-13, 44 U.S.C. chapter 35). A copy of each ICR, with applicable supporting documentation, may be obtained by contacting the Department of Labor. To obtain documentation, contact Ira Mills on 202-693-4122 (this is not a toll-free number) or e-mail: mills.ira@dol.gov.

Comments should be sent to Office of Information and Regulatory Affairs, Attn: OMB Desk Officer for the Employment and Training Administration (ETA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of a currently approved collection.

Title: Manufacture's Certification of Modifications Made to Construction Aerial Lifts (29 CFR 1926.453).

OMB Number: 1218-0216.

Affected Public: Business or other for-profit; Federal government; State, local or tribal government.

Type of Response: Recordkeeping.

Frequency: On occasion.

Number of Respondents: 300.

Annual Responses: 300.

Total Burden: 15.

Total Annualized Capital/Startup Costs: $0.

Total Annual Costs (operating/maintaining systems or purchasing services): $0.

Description: Employers who modify an aerial lift for uses other than those provided by the manufactures must obtain a certificate from the manufacturer or equivalent entity certifying that the modification is in conformance with applicable American National Standards Institute (ANSI) standards and this standard, and the equipment is as safe as it was prior to the modification. The manufacturer's certification demonstrates to interested parties that the manufacturer or an equally qualified entity assessed a modified aerial lift and found that it: Was safe for use by, or near employees; and would provide employees with a level of protection at least equivalent to the protection by the lift prior to modification.

Ira L. Mills,
Departmental Clearance Officer.

[FR Doc. 04-2494 Filed 2-4-04; 8:45 am]

BILLING CODE 4510-30-M